DEPARTMENT OF HEALTH AND HUMAN SERVICES

Centers for Disease Control and Prevention

[30Day-08-06AP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Aerosol Generation by Cough—NEW—The National Institute for Occupational Safety and Health (NIOSH), Centers for Disease Control and Prevention (CDC).

Background and Brief Description

The National Institute for Occupational Safety and Health (NIOSH) is authorized to conduct research to advance the health and safety of workers under Section 20(a)(1) of the 1970 Occupational Safety and Health Act.

Many respiratory diseases are spread when healthy people come into contact with infectious fluids from sick individuals. The most common mode of transmission is direct contact with infected persons, or contact with items or people they have touched. In addition, however, some respiratory illnesses can also spread via infectious aerosols that are generated by coughing and sneezing. Riley et al. established that tuberculosis is spread by inhalation of respirable particles generated by infected individuals. British studies of classrooms and offices found aerosols containing viable salivary streptococci and other oral bacteria that were thought to be created during speaking, coughing, and sneezing. Severe acute respiratory syndrome (SARS) and avian influenza are known to spread through infectious aerosols, and this may include cough-generated aerosols as well.

The airborne transmission of disease is of great concern to the public health community because of the increasing prevalence of drug-resistant strains of tuberculosis, the epidemic potential of newly-emerging diseases like avian influenza, and the threat of bioterrorism using agents such as bubonic plague. The purpose of this project is to better understand some of the factors involved in the production of aerosols of airway fluids by coughing. The project has two specific aims: Measure the quantity and size distribution of aerosol produced during human coughs and determine the effectiveness of surgical masks and N95 respirators at filtering cough-generated aerosols.

There is no cost to respondents other than their time. The total estimated annualized burden hours are 71.

Estimated Annualized Burden Hours
Type of respondent | Form | Number of respondents | Number of responses per respondent | Average burden per response (in hours)
All participants | Pre-test questionnaire | 147 | 1 | 5/60
Qualified participants | Health questionnaire | 140 | 1 | 5/60
| Consent form | 140 | 1 | 20/60

Dated: January 10, 2008.
Maryam Daneshvar,
Acting Reports Clearance Officer, Centers for Disease Control and Prevention.

[FR Doc. E8-1017 Filed 1-22-08; 8:45 am]

BILLING CODE 4163-18-P